DEPARTMENT OF HOMELAND SECURITY

Federal Emergency Management Agency

[Docket ID FEMA-2025-0002; Internal Agency Docket No. FEMA-B-2563]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Jeffrey Jackson,
Deputy Assistant Administrator, Federal Insurance Directorate, Resilience, Federal Emergency Management Agency, Department of Homeland Security.

State and county | Location and case No. | Chief executive officer of community | Community map repository | Online location of letter of map revision | Date of modification | Community No.
Connecticut: New Haven | Town of Wallingford (23-01-0472P). | The Honorable Vincent Cervoni, Mayor, Town of Wallingford, 45 South Main Street, Wallingford, CT 06492. | Town Hall, 45 South Main Street, Wallingford, CT 06492. | https://msc.fema.gov/portal/advanceSearch. | Dec. 15, 2025 | 090090
Florida:
Manatee | Unincorporated areas of Manatee County (24-04-7461P). | Charlie Bishop, Manatee County Administrator, 1112 Manatee Avenue West, Bradenton, FL 34205. | Manatee County Administrator Building, 115 Manatee Avenue West, Bradenton, FL 34205. | https://msc.fema.gov/portal/advanceSearch. | Dec. 26, 2025 | 120153
Martin | Unincorporated areas of Martin County (24-04-5443P). | Don G. Donaldson, Martin County Administrator, 2401 Southeast Monterey Road, Stuart, FL 34996. | Martin County Administrative Center, 2401 Southeast Monterey Road, Stuart, FL 34996. | https://msc.fema.gov/portal/advanceSearch. | Dec. 17, 2025 | 120161
Orange | City of Orlando (25-04-2096P). | The Honorable Buddy Dyer, Mayor, City of Orlando, 400 South Orange Avenue, Orlando, FL 32801. | Public Works Department, Engineering Division, 400 South Orange Avenue, 8th Floor, Orlando, FL 32801. | https://msc.fema.gov/portal/advanceSearch. | Dec. 22, 2025 | 120186
St. Johns | Unincorporated areas of St. Johns County (25-04-0917P). | Joy Andrews, St. Johns County Administrator, 500 San Sebastian View, St. Augustine, FL 32084. | St. Johns County Government Building, 500 San Sebastian View, St. Augustine, FL 32084. | https://msc.fema.gov/portal/advanceSearch. | Dec. 16, 2025 | 125147
Louisiana: East Baton Rouge | Unincorporated areas of East Baton Rouge Parish (24-06-2136P). | The Honorable Sid Edwards, Mayor-President, City of Baton Rouge and East Baton Rouge Parish, P.O. Box 1471, Baton Rouge, LA 70821. | Baton Rouge Planning Commission, 1100 Laurel Street, Baton Rouge, LA 70802. | https://msc.fema.gov/portal/advanceSearch. | Dec. 28, 2025 | 220058
Illinois: Cook | Village of Hoffman Estates (25-05-1418P). | The Honorable William D. McLeod, Mayor, Village of Hoffman Estates, 1900 Hassell Road, Hoffman Estates, IL 60169. | Village Hall, 1900 Hassell Road, Hoffman Estates, IL 60169. | https://msc.fema.gov/portal/advanceSearch. | Dec. 19, 2025 | 170107
Michigan:
Kent | Charter Township of Cascade (23-05-2902P). | The Honorable Grace Lesperance, Supervisor, Charter Township of Cascade, 5920 Tahoe Drive Southeast, Grand Rapids, MI 49546. | Charter Township Hall, 5920 Tahoe Drive Southeast, Grand Rapids, MI 49546. | https://msc.fema.gov/portal/advanceSearch. | Dec. 19, 2025 | 260814
Kent | Township of Ada (23-05-2902P). | The Honorable Thomas Korth, Supervisor, Township of Ada, P.O. Box 370, Ada, MI 49301. | Township Hall, 7330 Thornapple River Drive, Ada, MI 49301. | https://msc.fema.gov/portal/advanceSearch. | Dec. 19, 2025 | 260248
Massachusetts:
Plymouth | Town of Abington (24-01-0425P). | Scott Lambiase, Manager, Town of Abington, 500 Gliniewicz Way, Abington, MA 02351. | Town Hall, 500 Gliniewicz Way, Abington, MA 02351. | https://msc.fema.gov/portal/advanceSearch. | Dec. 12, 2025 | 250259
Worcester | City of Worcester (24-01-0348P). | Eric D. Batista, Manager, City of Worcester, 455 Main Street, Worcester, MA 01608. | City Hall, 455 Main Street, Worcester, MA 01608. | https://msc.fema.gov/portal/advanceSearch. | Dec. 1, 2025 | 250349
Missouri: Pettis | Unincorporated areas of Pettis County (24-07-0860P). | The Honorable Bill Taylor, Presiding Commissioner, Pettis County Commission, 415 South Ohio Avenue, Suite 212, Sedalia, MO 65301. | Sedalia-Pettis County Emergency Management Office, 1511 North Ohio Avenue, Sedalia, MO 65301. | https://msc.fema.gov/portal/advanceSearch. | Dec. 8, 2025 | 290823
North Carolina: Mecklenburg | Town of Huntersville (24-04-7717P). | The Honorable Christy Clark, Mayor, Town of Huntersville, P.O. Box 664, Huntersville, NC 28070. | Planning Department, 105 Gilead Road, Huntersville, NC 28078. | https://msc.fema.gov/portal/advanceSearch. | Dec. 17, 2025 | 370478
Ohio:
Fairfield | City of Pickerington (25-05-1088P). | The Honorable Lee Gray, Mayor, City of Pickerington, 100 Lockville Road, Pickerington, OH 43147. | City Hall, 100 Lockville Road, Pickerington, OH 43147. | https://msc.fema.gov/portal/advanceSearch. | Dec. 12, 2025 | 390162
Fairfield | Unincorporated areas of Fairfield County (25-05-1088P). | The Honorable Steve Davis, Commissioner, Fairfield County, 210 East Main Street, Room 301, Lancaster, OH 43130. | Fairfield County EMA, 240 Baldwin Drive, Lancaster, OH 43130. | https://msc.fema.gov/portal/advanceSearch. | Dec. 12, 2025 | 390158
Lake | Unincorporated areas of Lake County (24-05-1335P). | The Honorable Richard J. Regovich, President, Lake County Board of Commissioners, 105 Main Street, Painesville, OH 44077. | Lake County Administration Building, 105 Main Street, Painesville, OH 44077. | https://msc.fema.gov/portal/advanceSearch. | Dec. 15, 2025 | 390771
Lake | Village of Perry (24-05-1335P). | The Honorable James Gessic, Mayor, Village of Perry 3758 Center Road, Perry, OH 44081. | Village Hall, 3758 Center Road, Perry, OH 44081. | https://msc.fema.gov/portal/advanceSearch. | Dec. 15, 2025 | 390320
Oklahoma: Wagoner | City of Coweta (24-06-2177P). | The Honorable Naomi Hogue, Mayor, City of Coweta, P.O. Box 850, Coweta, OK 74429. | City Hall, 310 South Broadway, Coweta, OK 74429. | https://msc.fema.gov/portal/advanceSearch. | Dec. 18, 2025 | 400216
Texas:
Denton | City of Sanger (24-06-0927P). | The Honorable Thomas Muir, Mayor, City of Sanger, P.O. Box 1729, Sanger, TX 76266. | City Hall, 201 Bolivar Street, Sanger, TX 76266. | https://msc.fema.gov/portal/advanceSearch. | Dec. 19, 2025 | 480786
Denton | Town of Flower Mound (24-06-2617P). | The Honorable Cheryl Moore, Mayor, Town of Flower Mound, 2121 Cross Timbers Road, Flower Mound, TX 75028. | Public Works Department, Floodplain Management, 1001 Cross Timbers Road, Suite 2330, Flower Mound, TX 75028. | https://msc.fema.gov/portal/advanceSearch. | Dec. 17, 2025 | 480777
El Paso | City of El Paso (23-06-2681P). | The Honorable Renard U. Johnson, Mayor, City of El Paso, 300 North Campbell Street, El Paso, TX 79901. | Zoning Division, 811 Texas Avenue, El Paso, TX 79901. | https://msc.fema.gov/portal/advanceSearch. | Dec. 11, 2025 | 480214
Travis | City of Bee Cave (24-06-0788P). | The Honorable Kara King, Mayor, City of Bee Cave, 4000 Galleria Parkway, Bee Cave, TX 78738. | City Hall, 4000 Galleria Parkway, Bee Cave, TX 78738. | https://msc.fema.gov/portal/advanceSearch. | Dec. 29, 2025 | 481610
Travis | Unincorporated areas of Travis County (24-06-0788P). | The Honorable Andy Brown, Travis County Judge, P.O. Box 1748, Austin, TX 78767. | Travis County Courthouse, 700 Lavaca Street, Austin, TX 78701. | https://msc.fema.gov/portal/advanceSearch. | Dec. 29, 2025 | 481026
Virginia:
Arlington | Unincorporated areas of Arlington County (24-03-0126P). | Mark Schwartz, County Manager, Arlington County, 2100 Clarendon Boulevard, Suite 302, Arlington, VA 22201. | Ellen M. Bozman Government Center, 2100 Clarendon Boulevard, Arlington, VA 22201. | https://msc.fema.gov/portal/advanceSearch. | Dec. 15, 2025 | 515520
Arlington | Unincorporated areas of Arlington County (24-03-0127P). | Mark Schwartz, County Manager, Arlington County, 2100 Clarendon Boulevard, Suite 302, Arlington, VA 22201. | Ellen M. Bozman Government Center, 2100 Clarendon Boulevard, Arlington, VA 22201. | https://msc.fema.gov/portal/advanceSearch. | Dec. 18, 2025 | 515520

[FR Doc. 2025-19209 Filed 10-1-25; 8:45 am]

BILLING CODE 9110-12-P